SMALL BUSINESS ADMINISTRATION

[Disaster Declaration #14330 and #14331]

Oklahoma Disaster Number OK-00092

AGENCY: U.S. Small Business Administration.

ACTION: Amendment 9.

SUMMARY: This is an amendment of the Presidential declaration of a major disaster for the State of Oklahoma (FEMA—4222—DR), dated 05/26/2015.

Incident: Severe storms, tornadoes, straight line winds, and flooding.

Incident Period: 05/05/2015 through 06/22/2015.

Effective Date: 07/24/2015.

Physical Loan Application Deadline Date: 08/26/2015.

EIDL Loan Application Deadline Date: 02/26/2016.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Oklahoma, dated 05/26/2015 is hereby amended to include the following areas as adversely affected by the disaster:

Primary Counties: (Physical Damage and Economic Injury Loans): Adair, Cherokee, Coal, Delaware, Garvin, Hughes, Lincoln, Logan, Love, Murray, Ottawa, Pontotoc.

Contiguous Counties: (Economic Injury Loans Only):

Oklahoma: Garfield, Noble, Payne.

Arkansas: Benton, Crawford, Washington.

Kansas: Cherokee.

Missouri: Mcdonald, Newton.

Texas: Cooke.

All other information in the original declaration remains unchanged.

(Catalog of Federal Domestic Assistance Numbers 59002 and 59008)

James E. Rivera,
Associate Administrator for Disaster Assistance.

[FR Doc. 2015-18748 Filed 7-30-15; 8:45 am]

BILLING CODE 8025-01-P